NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board

DATE AND TIME: Tuesday, September 13, 2011, at 7:30 a.m.

PLACE: University of Arizona, Student Union Memorial Center, Catalina and Tucson Rooms, Tucson, Arizona

UPDATES & POINT OF CONTACT: Please refer to the National Science Board website http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS:

CLOSED SESSION:

September 13, 2011

7:30 a.m.-7:45 a.m.

7:45 a.m.-8 a.m.

OPEN SESSIONS:

September 13, 2011

8 a.m.-8:15 a.m.

8:15 a.m.-9:30 a.m.

9:30 a.m.-10 a.m.

10 a.m.-10:30 a.m.

10:30 a.m.-11 a.m.

11:30 a.m.-12 Noon

MATTERS TO BE DISCUSSED:

Thursday, September 13, 2011

ad hoc Committee on Nominations for the Class of 2012-2018 (NOMS)

Closed Session: 7:30 a.m.-7:45 a.m.

• Approval of Minutes.

• Committee Chairman's Remarks.

• Review and Approval of Recommended list of NSB Nominees for the Class of 2012-2018.

• Update on Committee Activities.

Plenary Executive Closed

Closed Session: 7:45 a.m.-8 a.m.

• Approval of Executive Closed Session Minutes.

• Nominations Committee Recommendations.

Chairman's Introduction and Welcome From the University of Arizona

Open Session: 8 a.m.-8:15 a.m.

Plenary Open

Open Session: 8:15 a.m.-9:30 a.m.

• Presentations on STEM Education and Outreach.

Moderator:

Dr. Leslie Tolbert, Vice President for Research, Graduate Studies, and Economic Development.

Speakers:

Mr. Phil Stokes, SAGUARO Program.

Dr. Jennie Scott, Director of Curriculum and Articulation Services, Pima Community College.

Dr. Maria Teresa Velez, Associate Dean, Graduate College, University of Arizona.

Dr. Randall Richardson, Professor Solid-Earth Geophysics, University of Arizona.

Dr. Sharon Hall, Assistant Professor, School of Life Science, Arizona State University.

CSB Subcommittee on Facilities (SCF)

Open Session: 9:30 a.m.-10 a.m.

• Chairman's Remarks.

• Discuss COMPETES Mid-scale Instrumentation task.

CPP Task Force on Unsolicited Mid-Scale Research (MS)

Open Session: 10 a.m.-10:30 a.m.

• Approval of minutes.

• Discussion of extended outline of MS Task Force final report.

• Update and discussion on the ongoing and future plans of the Task Force.

Task Force on Merit Review (MR)

Open Session: 10:30 a.m.-11 a.m.

• Approval of Minutes.

• Task Force Chairman's Remarks.

• Discussion of Most Recent Draft of the Merit Review Principles/Criteria.

• Discussion of the Draft Outline of the Merit Review Task Force Report.

• Task Force Chairman's Closing Remarks.

CSB Task Force on Data Policies (DP)

Open Session: 11 a.m.-11:30 a.m.

• Chairman's Remarks.

• Approval of minutes.

• Discussion of Recommendations for changes to NSF's Policies.

• Closing remarks from the Chairman.

Plenary Open

Open Session: 11:30 a.m.-12 Noon

• Approval of Open Session Minutes.

• Chairman's Report.

• Director's Report.

• Open Committee Reports.

• Chairman's Closing Remarks.

Ann Ferrante,
Writer-Editor.

[FR Doc. 2011-23006 Filed 9-2-11; 4:15 pm]

BILLING CODE 7555-01-P